ENVIRONMENTAL PROTECTION AGENCY

40 CFR Part 80

[EPA-HQ-OAR-2017-0091; FRL-9965-00-OAR]

RIN 2060-AT04

Public Hearing for Standards for 2018 and Biomass-Based Diesel Volume for 2019 Under the Renewable Fuel Standard Program

AGENCY: Environmental Protection Agency (EPA).

ACTION: Announcement of public hearing.

SUMMARY: The Environmental Protection Agency (EPA) is announcing a public hearing to be held in Washington, DC on August 1, 2017 for the proposed rule “Renewable Fuel Standard Program: Standards for 2018 and Biomass-Based Diesel Volume for 2019.” This proposed rule will be published separately in the Federal Register. The pre-publication version of this proposal can be found at https://www.epa.gov/renewable-fuel-standard-program/regulations-and-volume-standards-under-renewable-fuel-standard. In the separate notice of proposed rulemaking, EPA has proposed amendments to the renewable fuel standard program regulations that would establish annual percentage standards for cellulosic biofuel, biomass-based diesel, advanced biofuel, and renewable fuels that would apply to all gasoline and diesel produced in the U.S. or imported in the year 2018. In addition, the separate proposal includes a proposed biomass-based diesel applicable volume for 2019.

DATES: The public hearing will be held on August 1, 2017, at the location noted below under ADDRESSES. The hearing will begin at 9 a.m. and end when all parties present who wish to speak have had an opportunity to do so. Parties wishing to testify at the hearing should notify the contact person listed under FOR FURTHER INFORMATION CONTACT by July 25, 2017. Additional information regarding the hearing appears below under SUPPLEMENTARY INFORMATION.

ADDRESSES: The hearing will be held at the following location: Hyatt Regency Washington on Capitol Hill, 400 New Jersey Avenue NW., Washington, DC, USA, 20001 (phone number 202-737-1234). A complete set of documents related to the proposal will be available for public inspection through the Federal eRulemaking Portal: https://www.regulations.gov, Docket ID No. EPA-HQ-OAR-2017-0091. Documents can also be viewed at the EPA Docket Center, located at 1301 Constitution Avenue NW., Room 3334, Washington, DC between 8:30 a.m. and 4:30 p.m., Monday through Friday, excluding legal holidays.

FOR FURTHER INFORMATION CONTACT: Julia MacAllister, Office of Transportation and Air Quality, Assessment and Standards Division, Environmental Protection Agency, 2000 Traverwood Drive, Ann Arbor, MI 48105; telephone number: (734) 214-4131; Fax number: (734) 214-4816; Email address: RFS_Hearing@epa.gov.

SUPPLEMENTARY INFORMATION: The proposal for which EPA is holding the public hearing will be published separately in the Federal Register. The pre-publication version can be found at https://www.epa.gov/renewable-fuel-standard-program/regulations-and-volume-standards-under-renewable-fuel-standard.

Public Hearing: The public hearing will provide interested parties the opportunity to present data, views, or arguments concerning the proposal (which can be found at https://www.epa.gov/renewable-fuel-standard-program/regulations-and-volume-standards-under-renewable-fuel-standard). The EPA may ask clarifying questions during the oral presentations but will not respond to the presentations at that time. Written statements and supporting information submitted during the comment period will be considered with the same weight as any oral comments and supporting information presented at the public hearing. Written comments must be received by the last day of the comment period, as specified in the notice of proposed rulemaking.

How can I get copies of this document, the proposed rule, and other related information?

The EPA has established a docket for this action under Docket ID No. EPA-HQ-OAR-2017-0091. The EPA has also developed a Web site for the Renewable Fuel Standard (RFS) program, including the notice of proposed rulemaking, at the address given above. Please refer to the notice of proposed rulemaking for detailed information on accessing information related to the proposal.

Dated: July 10, 2017.
Christopher Grundler,
Director, Office of Transportation and Air Quality, Office of Air and Radiation.

[FR Doc. 2017-14946 Filed 7-17-17; 8:45 am]

BILLING CODE 6560-50-M